DEPARTMENT OF TRANSPORTATION

Federal Aviation Administration

Notice of Approval of the Record of Decision for the Proposed Chicago Terminal Airspace Project

AGENCY: Federal Aviation Administration (FAA), DOT.

ACTION: Notice of approval of the Record of Decision (ROD).

SUMMARY: The FAA is announcing the approval of the Record of Decision (ROD) for the Final Environmental Impact Statement for the Chicago Terminal Airspace Project (CTAP). The ROD provides final agency determinations and approvals for air traffic actions.

FOR FURTHER INFORMATION CONTACT: Ms. Annette Davis, Environmental Specialist, AGL-520.E, 2300 East Devon Avenue, Des Plaines, Illinois 60018, Telephone (847) 294-8091.

SUPPLEMENTARY INFORMATION: The ROD describes and approves the implementation of FAA actions associated with high-altitude airspace and procedural changes for flights to/from the Chicago region. The project would not provide for any airport related development nor would it cause significant adverse environmental impacts. The FAA's actions, which include only air traffic actions, are described tin detail in the CTAP Final Environmental Impact Statement (FEIS), which was approved on August 23, 2001.

In reaching the decisions, the FAA has given careful consideration to: (a) The aviation safety and operational objectives of the project in light of the various aeronautical factors and judgments presented; (b) the need to enhance efficiency of the national air transportation system; and (c) the anticipated environmental impacts of the project.

The FAA's determinations on CTAP are discussed in the ROD, which was approved on November 2, 2001.

ADDRESSES: The ROD is available for review at: Federal Aviation Administration; Airspace Branch; AGL-520, 2300 East Devon Avenue, Des Plaines, Illinois, 60018. Individuals who would like to review the ROD must contact Ms. Annette Davis at (847) 294-8091 to make prior arrangements. The ROD will also be posted at the following Web site: http://www.faa.gov/ctap.html

Issued in Des Plaines, Illinois on November 9, 2001.
Nancy B. Shelton,
Manager, Air Traffic Division.

[FR Doc. 01-28869 Filed 11-16-01; 8:45 am]

BILLING CODE 4910-13-M